DEPARTMENT OF TRANSPORTATION

Federal Aviation Administration

14 CFR Part 39

[Docket No. FAA-2015-2966; Directorate Identifier 2015-NM-051-AD; Amendment 39-18441; AD 2016-06-10]

RIN 2120-AA64

Airworthiness Directives; The Boeing Company Airplanes

AGENCY: Federal Aviation Administration (FAA), DOT.

ACTION: Final rule.

SUMMARY: We are adopting a new airworthiness directive (AD) for certain The Boeing Company Model 787-8 airplanes. This AD was prompted by a report of fuel leaking onto the hot exhaust portion of an engine as a result of an unintended leak path from the leading edge through the pylon. This AD requires installing new seal dams in the inboard and outboard corners of the aft pylon frame on the left and right engines, including an inspection for damage of the outboard blade seal and applicable corrective actions. We are issuing this AD to prevent fuel leaking from an unintended drain path from the leading edge through either the left or right pylon and onto the hot engine parts or brakes, which could lead to a major ground fire.

DATES: This AD is effective May 3, 2016.

The Director of the Federal Register approved the incorporation by reference of certain publication listed in this AD as of May 3, 2016.

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-2966.

Examining the AD Docket

You may examine the AD docket on the Internet at http://www.regulations.gov by searching for and locating Docket No. FAA-2015-2966; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Sherry Vevea, Aerospace Engineer, Propulsion Branch, ANM-140S, FAA, Seattle Aircraft Certification Office (ACO), 1601 Lind Avenue SW., Renton, WA 98057-3356; phone: 425-917-6514; fax: 425-917-6590; email: sherry.vevea@faa.gov.

SUPPLEMENTARY INFORMATION:

Discussion

We issued a notice of proposed rulemaking (NPRM) to amend 14 CFR part 39 by adding an AD that would apply to certain The Boeing Company Model 787-8 airplanes. The NPRM published in the Federal Register on July 30, 2015 (80 FR 45460) (“the NPRM”). The NPRM was prompted by a report of fuel leaking onto the hot exhaust portion of an engine as a result of an unintended leak path from the leading edge through the pylon. The NPRM proposed to require installing new seal dams in the inboard and outboard corners of the aft pylon frame on the left and right engines, including an inspection for damage of the outboard blade seal and applicable corrective actions. We are issuing this AD to prevent fuel leaking from an unintended drain path from the leading edge through either the left or right pylon and onto the hot engine parts or brakes, which could lead to a major ground fire.

Comments

We gave the public the opportunity to participate in developing this AD. The following presents the comments received on the NPRM and the FAA's response to each comment. United Airlines concurred with the content of the NPRM.

Request To Add Revised Service Information

Boeing and All Nippon Airways (ANA) asked that we reference Boeing Alert Service Bulletin B787-81205-SB540004-00, Issue 002, dated December 3, 2015, for accomplishing the actions in the NPRM. ANA stated that there are several errors in the referenced service information. Boeing stated that a revision would be issued to incorporate minor clarifications, and to update the effectivity.

We agree to reference Boeing Alert Service Bulletin B787-81205-SB540004-00, Issue 002, dated December 3, 2015, in this AD. Since we published the NPRM, Boeing issued Alert Service Bulletin B787-81205-SB540004-00, Issue 002, dated December 3, 2015. That revision removes three airplanes from the effectivity, and clarifies certain instructions as a result of feedback reported by operators after incorporation of Boeing Alert Service Bulletin B787-81205-SB540004-00, Issue 001, dated October 24, 2014. Boeing Alert Service Bulletin B787-81205-SB540004-00, Issue 001, dated October 24, 2014, was specified as the appropriate source of service information for accomplishing the actions in the NPRM.

We have changed paragraphs (c) and (g) of this AD to specify Boeing Alert Service Bulletin B787-81205-SB540004-00, Issue 002, dated December 3, 2015. We have also added a new paragraph (h) of this AD to give credit for actions done before the effective date of this AD using Boeing Alert Service Bulletin B787-81205-SB540004-00, Issue 001, dated October 24, 2014; and redesignated subsequent paragraphs accordingly.

Request To Reduce the Compliance Time

The Air Line Pilots Association (ALPA) International asked that we reduce the compliance time specified in the proposed AD (the proposed compliance time is within 60 months after the effective date of this AD). ALPA stated that the severity of a fuel leak from the leading edge through the pylon and onto the hot exhaust part of the engines warrants a shorter compliance time to correct this problem.

We do not agree with the commenter's request to reduce the compliance time. In developing an appropriate compliance time, we considered the safety implications and normal maintenance schedules for timely installation of inboard and outboard seal dams. In consideration of all of these factors, we determined that the compliance time, as proposed, represents an appropriate interval in which the inboard and outboard seal dams can be installed in a timely manner within the fleet, while still maintaining an adequate level of safety. Most ADs, including this one, permit operators to accomplish the requirements of an AD at a time earlier than the specified compliance time; therefore, an operator may choose to install the inboard and outboard seal dams before the 60-month compliance time specified in paragraph (g) of this AD. If additional data are presented that would justify a shorter compliance time, we may consider further rulemaking on this issue. We have not changed this AD in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Alert Service Bulletin B787-81205-SB540004-00, Issue 002, dated December 3, 2015. This service information describes procedures for installing new seal dams in the inboard and outboard corners of the aft pylon frame on the left and right engines, doing a general visual inspection to detect damage of the outboard blade seal, and doing corrective actions. This service information is reasonably available because the interested parties have access to it through their normal course of business or by the means identified in the ADDRESSES section.

Costs of Compliance

We estimate that this AD affects 17 airplanes of U.S. registry.

We estimate the following costs to comply with this AD:

Estimated Costs
Action | Labor cost | Parts cost | Cost per product | Cost on U.S. operators
Installation of seal dams | Up to 22 work-hours × $85 per hour = $1,870 | Up to $14,611 | Up to $16,481 | Up to $280,177.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-06-10 The Boeing Company: Amendment 39-18441; Docket No. FAA-2015-2966; Directorate Identifier 2015-NM-051-AD.

(a) Effective Date

This AD is effective May 3, 2016.

(b) Affected ADs

None.

(c) Applicability

This AD applies to The Boeing Company Model 787-8 airplanes, certificated in any category, as identified in Boeing Alert Service Bulletin B787-81205-SB540004-00, Issue 002, dated December 3, 2015.

(d) Subject

Air Transport Association (ATA) of America Code 54, Nacelles/pylons.

(e) Unsafe Condition

This AD was prompted by a report of fuel leaking onto the hot exhaust portion of the engine as a result of an unintended leak path from the leading edge through the pylon. We are issuing this AD to prevent fuel leaking from an unintended drain path from the leading edge through either the left or right pylon and onto the hot engine parts or brakes, which could lead to a major ground fire.

(f) Compliance

Comply with this AD within the compliance times specified, unless already done.

(g) Installation of Inboard and Outboard Seal Dams

Within 60 months after the effective date of this AD, install new seal dams in the inboard and outboard corners of the aft pylon frame on the left and right engines, including a general visual inspection to detect damage of the outboard blade seal, and do all applicable corrective actions, in accordance with the Accomplishment Instructions of Boeing Alert Service Bulletin B787-81205-SB540004-00, Issue 002, dated December 3, 2015. Do all applicable corrective actions before further flight, in accordance with the Accomplishment Instructions of Boeing Alert Service Bulletin B787-81205-SB540004-00, Issue 002, dated December 3, 2015.

(h) Credit for Previous Actions

This paragraph provides credit for actions required by paragraph (g) of this AD, if those actions were performed before the effective date of this AD using Boeing Alert Service Bulletin B787-81205-SB540004-00, Issue 001, dated October 24, 2014; which is not incorporated by reference in this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(j) Related Information

(1) For more information about this AD, contact Sherry Vevea, Aerospace Engineer, Propulsion Branch, ANM-140S, FAA, Seattle ACO, 1601 Lind Avenue SW., Renton, WA 98057-3356; phone: 425-917-6514; fax: 425-917-6590; email: sherry.vevea@faa.gov.

(2) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin B787-81205-SB540004-00, Issue 002, dated December 3, 2015.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 14, 2016.
Michael Kaszycki,
Acting Manager, Transport Airplane Directorate, Aircraft Certification Service.

[FR Doc. 2016-06401 Filed 3-28-16; 8:45 am]

BILLING CODE 4910-13-P